DEPARTMENT OF THE TREASURY

Submission for OMB Review; Comment Request

November 2, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 9, 2005 to be assured of consideration.

Internal Revenue Service (IRS)

OMB Number: 1545-1788.

Type of Review: Extension.

Title: Taxpayer Advocacy Panel (TAP) Membership Application.

Form: IRS form 13013C.

Description: An application to volunteer to serve on the Taxpayer Advocacy Panel, an advisory panel to the IRS.

Respondents: Business or other for-profit, Individual or households.

Estimated Total Burden Hours: 1,800 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-22339 Filed 11-8-05; 8:45 am]

BILLING CODE 4830-01-P